OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Executive Resources Services Group, Center for Performance Management Systems and Evaluation, Division for Human Capital Leadership and Merit System Accountability, 202-606-2246.

SUPPLEMENTARY INFORMATION: Appearing in the listing below are the individual authorities established under Schedules A, B, and C between November 1, 2009 and November 30, 2009. These notices are published monthly in the Federal Register at http://www.gpoaccess.gov/fr. A consolidated listing of all authorities as of June 30 is also published each year. The following Schedules are not codified in the Code of Federal Regulations. These are agency specific exceptions.

Schedule A

The following Schedule A appointments were approved during November 2009.

Schedule A. Revoked November 19, 2009. Revocation effective in 30 days.

Department of Homeland Security

The Schedule A authority reads:

Section 213.3111(a) Federal Deposit Insurance Corporation

Up to 50 positions at the GS-5 through 15 grade levels at the Department of Homeland Security. No new appointments may be made under this authority after September 30, 2006.

Schedule A. New authority established November 10, 2009.

Department of Defense

Section 213.3106(b) Department of Defense

(11) Not to exceed 3000 positions that require unique qualifications not currently established by OPM to perform cyber risk and strategic analysis, incident handling and malware/vulnerability analysis, program management, distributed control systems security, cyber incident response, cyber exercise facilitation and management, cyber vulnerability detection and assessment, network and systems engineering, enterprise architecture, intelligence analysis, investigation, investigative analysis and cyber related infrastructure inter-dependency analysis. This authority may be used to make permanent, time-limited and temporary appointments in the following occupational series: Security (GS-0080), intelligence analysts (GS-0132), computer engineers (GS-0854), electronic engineers (GS-0855), computer scientists (GS-1550), operations research (GS-1515), criminal investigators (GS-1811), telecommunications (GS-0391), and IT specialists (GS-2210). Within the scope of this authority, the U.S. Cyber Command is also authorized to hire miscellaneous administrative and program (GS-0301) series when those positions require unique qualifications not currently established by OPM. All positions will be at the General Schedule (GS) grade levels 09-15. No new appointments may be made under this authority after December 31, 2012 or the date on which OPM establishes applicable qualification standards, whichever is earlier.

Schedule B

The following Schedule B appointments were approved during November 2009.

Section 213.3204 Department of State is amended to read:

Section 213.3204 Department of State

(d) Seventeen positions on the household staff of the President's Guest House (Blair and Blair-Lee Houses).

Schedule C

The following Schedule C appointments were approved during November 2009.

Department of State

DSGS69951 Staff Assistant to the Special Envoy with the Rank of Ambassador. Effective November 30, 2009.

DSGS69975 Special Assistant to the Secretary of State. Effective November 30, 2009.

Department of the Treasury

DYGS60390 Senior Advisor to the Assistant Secretary and Chief Financial Officer. Effective November 24, 2009.

Department of Defense

DDGS17262 Special Assistant to the Director, Operational Test and Evaluation. Effective November 06, 2009.

DDGS17265 Deputy White House Liaison to the Special Assistant for White House Liaison. Effective November 09, 2009.

DDGS17264 Special Assistant to the Principal Deputy Assistant Secretary of Defense for Legislative Affairs. Effective November 20, 2009.

DDGS17266 Special Assistant to the Deputy Assistant Secretary of Defense for Cyber and Space Policy. Effective November 20, 2009.

Department of Homeland Security

DMGS00817 Special Assistant to the Officer of Civil Rights and Civil Liberties. Effective November 13, 2009.

Department of the Interior

DIGS01175 Deputy Director to the Director, Congressional and Legislative Affairs. Effective November 20, 2009.

Department of Agriculture

DAGS00182 Special Assistant to the Administrator, Farm Service Agency. Effective November 24, 2009.

DAGS00301 Chief of Staff to the Assistant Secretary for Administration. Effective November 24, 2009.

DAGS02000 Chief of Staff to the Deputy Under Secretary for Marketing and Regulatory Programs. Effective November 27, 2009.

DAGS02001 Confidential Assistant to the Administrator. Effective November 27, 2009.

Department of Commerce

DCGS00074 Director, Office of Strategic Partnerships to the Assistant Secretary and Director General of United States/Foreign Commercial Service. Effective November 02, 2009.

DCGS00553 Director of Outreach to the Assistant Secretary for Economic Development. Effective November 02, 2009.

DCGS00427 Special Advisor to the Under Secretary of Commerce for Industry and Security. Effective November 17, 2009.

DCGS00446 Director of Legislative Affairs to the Under Secretary of Commerce for Industry and Security. Effective November 17, 2009.

DCGS00418 Confidential Assistant to the Under Secretary for Economic Affairs. Effective November 20, 2009.

Department of Labor

DLGS60225 Special Assistant to the Director of Scheduling and Advance. Effective November 05, 2009

DLGS60252 Special Assistant to the Director of Recovery for Auto Communities and Workers.

Effective November 05, 2009.

Department of Health and Human Services

DHGS60419 Confidential Assistant to the Deputy Assistant Secretary for Public Affairs (Policy and Strategy). Effective November 03, 2009.

DHGS60032 Special Assistant to the Commissioner of Food and Drugs. Effective November 16, 2009.

DHGS60463 Senior Advisor, Office of Health Reform to the Principal Deputy Assistant Secretary for Planning and Evaluation. Effective November 18, 2009.

DHGS60469 Director of Communications, Office of Health Reform to the Principal to the Deputy Assistant Secretary for Planning and Evaluation. Effective November 18, 2009.

DHGS60240 Regional Director, Dallas, Texas, Region VI to the Director of Intergovernmental Affairs. Effective November 23, 2009.

DHGS60244 Regional Director, Seattle, Washington, Region X to the Director of Intergovernmental Affairs. Effective November 23, 2009.

DHGS60255 Regional Director, Chicago, Illinois-Region V to the Director of Intergovernmental Affairs. Effective November 23, 2009.

DHGS60417 Regional Director, Kansas City, Missouri, Region VII to the Director of Intergovernmental Affairs. Effective November 23, 2009.

Department of Education

DBGS00192 Special Assistant to the Assistant Secretary for Civil Rights. Effective November 06, 2009.

DBGS00647 Special Assistant to the Assistant Secretary for Elementary and Secondary Education Effective November 09, 2009.

DBGS00353 Special Assistant to the Assistant Secretary for Planning, Evaluation, and Policy Development. Effective November 16, 2009.

DBGS00414 Press Secretary for Strategic Communications to the Assistant Secretary, Office of Communications and Outreach. Effective November 16, 2009.

DBGS00434 Press Secretary for Media Relations to the Assistant Secretary, Office for Communications and Outreach. Effective November 16, 2009.

Environmental Protection Agency

EPGS05005 Deputy Press Secretary to the Associate Administrator for Public Affairs. Effective November 02, 2009.

EPGS05016 Deputy Press Secretary to the Associate Administrator for Public Affairs. Effective November 02, 2009.

EPGS06032 Deputy to the Scheduler to the Administrator. Effective November 02, 2009.

EPGS06008 Advance Specialist to the Administrator. Effective November 13, 2009.

Department of Energy

DEGS00777 Special Assistant to the Deputy Chief of Staff. Effective November 24, 2009.

DEGS00778 Special Assistant to the Chief of Staff. Effective November 24, 2009.

DEGS00779 Special Assistant to the Deputy Secretary of Energy. Effective November 27, 2009.

Federal Deposit Insurance Corporation

FDOT00015 Writer-Editor to the Chairman of the Board of Directors. Effective November 20, 2009.

Federal Trade Commission

FTGS60001 Director, Office of Public Affairs to the Chairman. Effective November 09, 2009.

Department of Transportation

DTGS60377 Director, Office of Governmental, International and Public Affairs to the Deputy Administrator. Effective November 03, 2009.

DTGS60465 Press Secretary to the Assistant to the Secretary and Director of Public Affairs. Effective November 20, 2009.

DTGS60476 Deputy Press Secretary to the Secretary and Director of Public Affairs. Effective November 20, 2009.

Authority: 5 U.S.C. 3301 and 3302; E.O. 10577, 3 CFR 1954-1958 Comp., p. 218.

U.S. Office of Personnel Management.
John Berry,
Director.

[FR Doc. E9-31027 Filed 12-29-09; 8:45 am]

BILLING CODE 6325-39-P